DEPARTMENT OF HOUSING AND URBAN DEVELOPMENT

[Docket No. FR-4837-D-55]

Revocation and Redelegation of Authority: Office of Affordable Housing Preservation

AGENCY: Office of the Assistant Secretary for Housing—Federal Housing Commissioner, HUD.

ACTION: Notice of revocation and redelegation of authority.

SUMMARY: Published elsewhere in today's Federal Register, the Secretary of HUD issued a delegation of authority to the Assistant Secretary for Housing—Federal Housing Commissioner (Assistant Secretary) authorizing him to carry out the provisions of the Multifamily Assisted Housing Reform and Affordability Act (MAHRA). Under this notice, the Assistant Secretary is redelegating authority to carry out provisions of MAHRA to the General Deputy Assistant Secretary—Deputy Federal Housing Commissioner (General Deputy Assistant Secretary) and to staff within the Office of Affordable Housing Preservation.

DATES: Effective October 1, 2004.

FOR FURTHER INFORMATION CONTACT: Eliot C. Horowitz, Senior Advisor to the Assistant Secretary for Housing—Federal Housing Commissioner, Office of Housing, Department of Housing and Urban Development, Room 9110, Washington, DC 20410-8000, telephone (202) 708-0614. (This is not a toll-free number.) Persons with hearing or speech impairments may call HUD's toll-free Federal Information Relay Service at (800) 877-8339.

SUPPLEMENTARY INFORMATION: The Mark-to-Market program was established under the Multifamily Assisted Housing Reform and Affordability Act, Title V. of Public Law 105-65 (approved October 27, 1997), 42 U.S.C. 1437f note, as amended (MAHRA). Under the Mark-to-Market program, HUD is authorized to restructure the mortgage financing of projects, financed with HUD-insured or HUD-held mortgages and receiving project-based Section 8 assistance. As originally enacted, MAHRA provided for the establishment of the Office of Multifamily Housing Assistance Restructuring (OMHAR), for the purpose of administering the program. However, present amendments to MAHRA provide for the elimination of OMHAR as of September 30, 2004, and for the continuation of the Mark-to-Market program subsequent to that date.

Elsewhere in today's Federal Register, the Secretary has delegated to the Assistant Secretary for Housing—Federal Housing Commissioner responsibility for administering the Mark-to-Market program after September 30, 2004. For the purpose of carrying out those responsibilities, the Assistant Secretary for Housing is creating the Office of Affordable Housing Preservation (OAHP), a new office within the Office of Housing. OAHP will be responsible for carrying out HUD's Mark-to-Market program.

Under this redelegation of authority, the Assistant Secretary is redelegating authority to administer the program to the General Deputy Assistant Secretary and to various officials within OAHP.

The Office of Affordable Housing Preservation is headed by a Deputy Assistant Secretary (DAS) and an Associate Deputy Assistant Secretary (ADAS). OAHP is headquartered in Washington, DC and has two field offices; one located in Washington, DC, the other in Chicago, IL. OAHP also has staff out-stationed in New York City.

Within this redelegation, the Assistant Secretary is redelegating authority to the General Deputy Assistant Secretary; the OAHP Deputy Assistant Secretary; the OAHP Associate Deputy Assistant Secretary; OAHP Directors; OAHP Deputy Directors; the Bonds and Appeals Manager, at headquarters; and the Rehabilitation Escrow Administration Division Manager, out-stationed in New York City.

Based upon the foregoing, the Assistant Secretary for Housing hereby redelegates authority as follows:

I. Authority Redelegated

A. The Assistant Secretary for Housing redelegates to the General Deputy Assistant Secretary (GDAS) the following authority:

All authority necessary to carry out the provisions of the Mark-to-Market Program, 42 U.S.C. 1437f note, except for the authority to issue and/or waive regulations; and except for the authority to sue and be sued.

B. The Assistant Secretary for Housing redelegates to the OAHP Deputy Assistant Secretary (DAS) and to the OAHP Associate Deputy Assistant Secretary (Associate DAS), the following authority:

(1) To modify and sign any documents necessary to perform enumerated functions and to waive any directive issued by OAHP that is not mandated by a statute or regulation.

(2) To administer all provisions of MAHRA, including but not limited to the following:

(a) To make eligibility determinations under sections 512 and 516 of MAHRA;

(b) To enter into, modify and or extend agreements with participating administrative entities under section 513 of MAHRA;

(c) In connection with a restructuring transaction, to make rent and/or mortgage restructuring determinations under sections 514, 515, 517 and 524; and

(d) To terminate, modify or affirm any decision on appeal under MAHRA.

(3) In connection with a restructuring transaction, to modify the principal balance, payments, interest rate, and amortization period and other terms of existing FHA insured and HUD-held mortgages including any HUD or Secretary-held subordinate debt encumbering or otherwise related to a project; and to issue restructuring commitments and closing documents relating to such debt.

(4) To issue HUD forms 92264 and 92264A upon approval of a restructuring plan.

(5) In connection with a restructuring transaction, to approve transfers of physical assets.

(6) In connection with a restructuring transaction, to approve environmental assessment and compliance findings for related laws report, HUD form 4128.1.

(7) To issue a commitment to insure and endorse for insurance a mortgage note given to refinance a HUD-insured or HUD-held mortgage, pursuant to section 223(a)(7) of the National Housing Act (12 U.S.C. 1715n).

(8) For qualified nonprofits acquiring projects that are the subject of a restructuring transaction, to modify, assign or forgive debt created in the restructuring.

(9) To administer escrow accounts and modify the agreement established under the restructuring transaction, for the purpose of addressing immediate and near term rehabilitation needs of a project.

(10) To perform all source selection official duties, subject to laws, regulations, and HUD policies and procedures governing the procurement process.

(11) To administer grant programs, other than selecting a grantee as only the Assistant Secretary for Housing is authorized to function as the Grant Official for the Office of Housing.

C. The Assistant Secretary for Housing redelegates to each OAHP Director and OAHP Deputy Director, in the Field Offices and at Headquarters, the following authority:

(1) To modify and sign any documents necessary to perform enumerated functions and to waive any directive issued by OAHP that is not mandated by a statute or regulation.

(2) To administer the following provisions of MAHRA:

(a) To make eligibility determinations under sections 512 and 516 of MAHRA;

(b) In connection with a restructuring transaction, to make rent and/or mortgage restructuring determinations under sections 514, 515, 517 and 524; and

(c) To reject or hear and decide any appeal made to the Production Office under 24 CFR 401.645 or other permissible procedure.

(3) In connection with a restructuring transaction, to modify the principal balance, payments, interest rate, and amortization period and other terms of existing FHA insured and HUD-held mortgages including any HUD or Secretary-held subordinate debt encumbering or otherwise related to a project; and to issue restructuring commitments and closing documents relating to such debt.

(4) To issue HUD forms 92264 and 92264A upon approval of a restructuring plan.

(5) In connection with a restructuring transaction, to approve transfers of physical assets.

(6) In connection with a restructuring transaction, to approve environmental assessment and compliance findings for related laws report, HUD form 4128.1.

(7) To issue a commitment to insure and endorse for insurance a mortgage note given to refinance a HUD-insured or HUD-held mortgage, pursuant to section 223(a)(7) of the National Housing Act (12 U.S.C. 1715n).

(8) For qualified nonprofits acquiring projects that are the subject of a restructuring transaction, to modify, assign or forgive debt created in the restructuring.

D. The Assistant Secretary for Housing redelegates to the Rehabilitation Escrow Administration Manager, the following authority:

(1) To modify and sign any documents necessary to perform enumerated functions related to the rehabilitation needs of a project that was the subject of a restructuring transaction, and to waive any directive issued by OAHP that is not mandated by a statute or regulation.

(2) To administer escrow accounts and modify the agreement established under the restructuring transaction, for the purpose of addressing immediate and near term rehabilitation needs of a project.

E. The Assistant Secretary for Housing redelegates to the Bonds and Appeals Manager, the following authority:

(1) To modify and sign any documents necessary to perform enumerated functions related to appeals under MAHRA and/or the regulations promulgated under MAHRA.

(2) To reject or hear and decide any appeal under MAHRA and/or the regulations promulgated under MAHRA except for 24 CFR 401.645

II. Authority Excepted

The authority redelegated herein does not include the authority to issue or to waive HUD regulations. The authority redelegated herein also does not include the authority to sue or be sued.

III. Further Redelegation

The authority redelegated herein may not be further redelegated.

Authority: Section 7(d), Department of Housing and Urban Development Act (42 U.S.C. 3535(d)).

Dated: October 7, 2004.
John C. Weicher,
Assistant Secretary for Housing—Federal Housing Commissioner.

[FR Doc. 04-23698 Filed 10-21-04; 8:45 am]

BILLING CODE 4210-27-P